DEPARTMENT OF THE TREASURY

Submission for OMB Review; Comment Request

December 28, 2005.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before February 3, 2005 to be assured of consideration.

Alcohol and Tobacco Tax and Trade Bureau (TTB)

OMB Number: 1513-0013.

Type of Review: Extension.

Title: Change of Bond (Consent of Surety).

Form: TTB form F 5000.18.

Description: A change of Bond (Consent of Surety) is executed by both the bonding company and a proprietor and acts as a binding legal agreement between the two parties to extend the terms of a bond. A bond is necessary to cover specific liabilities on the revenue produced from untaxpaid commodities. The Change of Bond (Consent of Surety) is filed with the TTB and a copy is retained by TTB as long as it remains current and in force.

Respondents: Business or other for-profit.

Estimated Total Burden Hours: 2,000 hours.

OMB Number: 1513-0027.

Type of Review: Extension.

Title: Taxable Articles without Payment of Tax.

Form: TTB form F 5200.14.

Description: TTB needs this information to protect the revenue. If this TTB form is not properly completed, TTB will assess the tax on the manufacturer of tobacco products or cigarette papers and tubes or the proprietor of the export warehouse or customs manufacturing warehouse.

Respondents: Business or other for-profit, Individuals or households and Federal Government.

Estimated Total Burden Hours: 14,960 hours.

OMB Number: 1513-090.

Type of Review: Extension.

Title: Excise Tax Return—Alcohol and Tobacco (Puerto Rico).

Form: TTB form F 5000.25.

Description: Businesses in Puerto Rico report their Federal excise tax liability on distilled spirits, wine, beer, tobacco products, cigarette papers and tubes on TTB F 5000.25. TTB needs this form to identify the taxpayer and to determine the amount and type of taxes due and paid.

Respondents: Business or other for-profit.

Estimated Total Burden Hours: 119 hours.

Clearance Officer: Frank Foote, (202) 927-9347, Alcohol and Tobacco Tax and Trade Bureau, Room 200 East, 1310 G Street, NW., Washington, DC 20005.

OMB Reviewer: Alexander T. Hunt, (202) 395-7316, Office of Management and Budget, Room 10235, New Executive Office Building, Washington, DC 20503.

Michael A. Robinson,
Treasury PRA Clearance Officer.

1

[FR Doc. E5-8247 Filed 1-3-06; 8:45 am]

BILLING CODE 4810-31-P